NATIONAL SCIENCE FOUNDATION

Sunshine Act Meetings

The National Science Board (NSB) hereby gives notice of the scheduling of teleconference meetings for the transaction of National Science Board business pursuant to the National Science Foundation Act and the Government in the Sunshine Act.

TIME AND DATE: Wednesday, December 8, 2021, from 12:45 p.m. to 5:35 p.m., and Thursday, December 9, 2021, from 11:00 a.m. to 3:35 p.m. EST.

PLACE: These meetings will be held by videoconference. There will be no in-person meetings. The public may observe the public meetings, which will be streamed to the NSF You Tube channel.

• December 8, 2021: https://youtu.be/snamRnowjxQ

• December 9, 2021: https://youtu.be/71AMQQBijfU

STATUS: Parts of these meetings will be open to the public. The rest of the meetings will be closed to the public. See full description below.

MATTERS TO BE CONSIDERED:

Wednesday, December 8, 2021

Plenary Board Meeting

Open Session: 12:45 p.m.-3:10 p.m.

• NSB Chair's Remarks

• NSF Director's Remarks

• Cool Science presentations

• Panel: The Uneven Geography of K-12 STEM Education

• NSB Chair Activity Summary

Open Session: 4:40 p.m.-5:35 p.m.

• Committee on Science and Engineering Policy Report and Discussion

• Committee on External Engagement Report and Discussion

Thursday, December 9, 2021

Plenary Board

Open Session: 11:00 a.m.-11:45 a.m.

• Committee on Equal Opportunities in Science and Engineering (CEOSE) Biennial Report Presentation

• Vision 2030 Implementation Update

Closed Session: 11:45 a.m.-2:30 p.m.

• NSB Chair's Remarks

• Approval of Prior Minutes

• Director's Remarks

• Agency Operating Status

• Research Security

• Committee on Awards & Facilities Meeting Report and Discussion

• Vote: Rubin Observatory Rebaseline Action

• Committee on Strategy Report and Discussion

• Vote: Sense of the Board Statement on NSF's 2022-2026 Strategic Plan Draft

• Subcommittee on Technology, Innovation, and Partnerships (TIP) Report and Discussion

• Vote to Enter Executive Session

Executive Closed Agenda Items: 1:25 p.m.-2:30 p.m.

• NSB Chair's Remarks

• Approval of Prior Minutes

• NSF Director's Remarks

• TIP Status Update

• 2022 NSB Honorary Awards Discussion

• Vote

Plenary Board

Open Session: 3:00 p.m.-3:35 p.m.

• NSB Chair's Remarks

• K-12 STEM Education Exploratory Group

• Member recognitions

• NSBO staffing update

• Approval of Prior Minutes

• NSF Director's Remarks

• Senior Executive Update

• Office of Legislative and Public Affairs Update

• FY 2022 Budget Update

• Committee on Awards and Facilities Report and Discussion

• Astro 2020 Decadal Survey Executive Summary

• Committee on Oversight Report and Discussion

• Votes:

° Merit Review Digest Overview

° Merit Review Digest revisions to tables

• NSB Chair's Closing Remarks

Meeting Adjourns: 3:35 p.m.

PORTIONS OPEN TO THE PUBLIC:

Wednesday, December 8, 2021

12:45 p.m.-3:10 p.m. Plenary NSB

4:40 p.m.-5:35 p.m. Plenary NSB

Thursday, December 9, 2021

11:00 a.m.-11:45 a.m. Plenary NSB

3:00 p.m.-3:35 p.m. Plenary NSB

PORTIONS CLOSED TO THE PUBLIC:

Thursday, December 9, 2021

11:45 a.m.-2:30 p.m. Plenary NSB, including executive closed items

1:25 p.m.-2:30 p.m. Executive closed items

All open sessions of the meeting will be webcast live on the NSB YouTube channel.

• December 8, 2021: https://youtu.be/snamRnowjxQ

• December 9, 2021: https://youtu.be/71AMQQBijfU

Please refer to the NSB website for additional information. You will find any updated meeting information and schedule updates (time, place, subject matter, or status of meeting) at https://www.nsf.gov/nsb/meetings/notices.jsp.

Members of the public are advised that the NSB provides some flexibility around its meeting times. A meeting may be allowed to run over by as much as 15 minutes if the Chair decides the extra time is warranted. The next meeting will start no later than 15 minutes after the noticed start time. If a meeting ends early, the next meeting may start up to 15 minutes earlier than the noticed start time. NSB and committee meetings will not vary from noticed times by more than 15 minutes. Open meetings can also be watched in their entirety later through the YouTube link.

CONTACT PERSON FOR MORE INFORMATION: The NSB Office contact is Chris Blair, cblair@nsf.gov, 703-292-7000. The NSB Public Affairs contact is Nadine Lymn, nlymn@nsf.gov, 703-292-2490.

Chris Blair,
Executive Assistant to the National Science Board Office.

[FR Doc. 2021-26479 Filed 12-2-21; 11:15 am]

BILLING CODE 7555-01-P